DEPARTMENT OF JUSTICE

Notice of Lodging of Proposed Consent Decree Under the Comprehensive Environmental Response, Compensation, and Liability Act of 1980, as Amended

On June 5, 2019, the Department of Justice lodged a proposed Consent Decree with the United States District Court for the Eastern District of Pennsylvania in the lawsuit entitled United States v. the City of Philadelphia and the City of Philadelphia Redevelopment Authority, Civil Action No. 2:19-cv-02433-MMB.

In its Complaint, pursuant to Section 107(a) of the Comprehensive Environmental Response, Compensation, and Liability Act of 1980, as amended (“CERCLA”), 42 U.S.C. 9607(a), the United States alleges that the City, as an owner, arranger, and transporter, and the Philadelphia Redevelopment Authority, as an owner and operator, are liable for a portion of the cleanup costs incurred and to be incurred by the Environmental Protection Agency in connection with the cleanup of Operable Unit 1 (“OU 1”) of Lower Darby Creek Area Superfund Site (a.k.a. the “Clearview Landfill”). The Site is located on the east side of Darby Creek near the intersection of 84th Street and Lindbergh Boulevard in Delaware County and Philadelphia County, Pennsylvania.

The proposed Consent Decree resolves all allegations asserted in the United States' Complaint and provides for a combined payment of $8.4 million (City, $6,540,000; Redevelopment Authority, $1,863,000) in four installment payments, between 2019 and 2022. In exchange, the City and Redevelopment Authority receive from the United States a covenant not to sue for past and future response costs for OU 1, subject to certain reservations and limitations. The United States, which the City and Redevelopment Authority allege is also a responsible party at OU 1, also receives a qualified release for OU 1 from the City and Redevelopment Authority.

The publication of this notice opens a period for public comment on the Consent Decree. Comments should be addressed to the Assistant Attorney General, Environment and Natural Resources Division, and should refer to United States v. the City of Philadelphia and the City of Philadelphia Redevelopment Authority, D.J. Ref. No. 90-11-3-10909. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $ 10.75 (0.25 cents per page reproduction cost) payable to the United States Treasury for a copy of the Consent Decree with appendices. For a paper copy without the appendices, the cost is $ 9.25.

Robert Brook,
Assistant Section Chief, Environmental Enforcement Section, Environment and Natural Resources Division.

[FR Doc. 2019-12218 Filed 6-10-19; 8:45 am]

BILLING CODE 4410-15-P